DEPARTMENT OF COMMERCE

National Oceanic and Atmospheric Administration

50 CFR Part 300

RIN 0648-XM03

Fraser River Sockeye Salmon Fisheries; Inseason Orders

AGENCY: National Marine Fisheries Service (NMFS), National Oceanic and Atmospheric Administration (NOAA), Commerce.

ACTION: Temporary orders; inseason orders; request for comments.

SUMMARY: NMFS publishes Fraser River salmon inseason orders to regulate salmon fisheries in U.S. waters. The orders were issued by the Fraser River Panel (Panel) of the Pacific Salmon Commission (Commission) and subsequently approved and issued by NMFS during the 2008 salmon fisheries within the U.S. Fraser River Panel Area. These orders established fishing dates, times, and areas for the gear types of U.S. treaty Indian and all citizen fisheries during the period the Panel exercised jurisdiction over these fisheries.

DATES: The effective dates for the inseason orders are set out in this document under the heading Inseason Orders. Comments will be accepted through February 27, 2009.

ADDRESSES: You may submit comments, identified by 0648-XM03 by any one of the following methods:

Electronic Submissions: Submit all electronic public comments via the Federal eRulemaking Portal http://www.regulations.gov

Fax: 206-526-6736

Mail: NMFS NWR, 7600 Sand Point Way NE, Seattle, WA 98115.

Instructions: All comments received are a part of the public record and will generally be posted to http://www.regulations.gov without change. All Personal Identifying Information (for example, name address, etc.) voluntarily submitted by the commenter may be publicly accessible. Do not submit Confidential Business Information or otherwise sensitive or protected information.

NMFS will accept anonymous comments (enter N/A in the required fields if you wish to remain anonymous). Attachments to electronic comments will be accepted in Microsoft Word, Excel, WordPerfect, or Adobe PDF file formats only.

FOR FURTHER INFORMATION CONTACT: Peggy Busby, by phone at 206-526-4323, peggy.busby@noaa.gov

SUPPLEMENTARY INFORMATION: The Treaty between the Government of the United States of America and the Government of Canada concerning Pacific Salmon was signed at Ottawa on January 28, 1985, and subsequently was given effect in the United States by the Pacific Salmon Treaty Act (Act) at 16 U.S.C. 3631-3644.

Under authority of the Act, Federal regulations at 50 CFR part 300, subpart F provide a framework for the implementation of certain regulations of the Commission and inseason orders of the Commission's Fraser River Panel for U.S. sockeye and pink salmon fisheries in the Fraser River Panel Area.

The regulations close the U.S. portion of the Fraser River Panel Area to U.S. sockeye and pink salmon fishing unless opened by Panel orders that are given effect by inseason regulations published by NMFS. During the fishing season, NMFS may issue regulations that establish fishing times and areas consistent with the Commission agreements and inseason orders of the Panel. Such orders must be consistent with domestic legal obligations and are issued by Regional Administrator, Northwest Region, NMFS. Official notification of these inseason actions is provided by two telephone hotline numbers described at 50 CFR 300.97(b)(1). The inseason orders are published in the Federal Register as soon as practicable after they are issued. Due to the frequency with which inseason orders are issued, publication of individual orders is impractical. Therefore, the 2008 orders are being published in this single document to avoid fragmentation.

Inseason Orders

The following inseason orders were adopted by the Panel and issued for U.S. fisheries by NMFS during the 2008 fishing season. Each of the following inseason actions was effective upon announcement on telephone hotline numbers as specified at 50 CFR 300.97(b)(1); those dates and times are listed herein. The times listed are local times, and the areas designated are Puget Sound Management and Catch Reporting Areas as defined in the Washington State Administrative Code at Chapter 220-22:

Order Number 2008-01: Issued 1 p.m., July 18, 2008

Treaty Indian Fisheries:

Areas 4B, 5 and 6C: Open to drift gillnets from 12 p.m. (noon), Saturday, July 19, 2008 to 12 p.m. (noon), Wednesday, July 23, 2008.

Order Number 2008-02: Issued 1:30 p.m., July 22, 2008

Treaty Indian Fisheries:

Areas 4B, 5 and 6C: Extended for drift gillnets from 12 p.m. (noon), Wednesday, July 23, 2008, to 12 p.m. (noon), Saturday, July 26, 2008.

Order Number 2008-03: Issued 1:30 p.m., July 25, 2008

Treaty Indian Fisheries:

Areas 4B, 5 and 6C: Extended for drift gillnets from 12 p.m. (noon), Saturday, July 26, 2008, to 12 p.m. (noon), Tuesday, July 29, 2008.

Areas 6, 7, and 7A: Open to net fishing from 6 a.m., Sunday, July 27, 2008 to 10 a.m., Monday, July 28, 2008.

All Citizen Fisheries:

Areas 7 and 7A Purse seine: Open from 7 a.m. to 7 p.m., Friday, July 25, 2008.

Areas 7 and 7A Gillnet: Open from 8 a.m. to 8 p.m., Friday, July 25, 2008.

Areas 7 and 7A Reefnet: Open from 6 a.m. to 6 p.m., Monday, July 28, 2008.

Order Number 2008-04: Issued 1:30 p.m., July 28, 2008

Treaty Indian Fishery:

Areas 4B, 5 and 6C: Extended for drift gillnets from 12 p.m. (noon), Tuesday, July 29, 2008 to 12 p.m. (noon), Wednesday, July 30, 2008.

Areas 6, 7, and 7A: Open to net fishing from 12:45 p.m., Monday, July 28, 2008, to 3 p.m., Tuesday, July 29 2008.

All Citizen Fisheries:

Areas 7 and 7A Purse seine: Open from 5 a.m. to 9 p.m., Tuesday, July 29, 2008.

Areas 7 and 7A Reef Net: Open from 5 a.m. to 9 p.m., Tuesday, July 29, 2008.

Areas 7 and 7A Gillnet: Open from 8 a.m. to 12 a.m. (midnight), Tuesday, July 29, 2008.

Order Number 2008-05: Issued 1:30 p.m., July 29, 2008

Treaty Indian Fishery:

Areas 48, 5 and 6C: Extended for drift gillnets from 12 p.m. (noon), Wednesday, July 30, 2008 to 12 p.m. (noon), Saturday, August 2, 2008.

Areas 6, 7, and 7A: Open for net fishing from 3 p.m., Tuesday, July 29, 2008 to 11:59 p.m. (midnight), Thursday, July 31, 2008.

All Citizen Fisheries:

Areas 7 and 7A Purse Seine: Open from 5 a.m. to 9 p.m., Wednesday, July 30, 2008 and from 5 a.m. to 9 p.m., Thursday, July 31, 2008.

Areas 7 and 7A Gillnet: Open from 8 a.m. to 11:59 p.m., Wednesday, July 30, 2008, and from 8 a.m. to 11:59 p.m., Thursday, July 31, 2008.

Areas 7 and 7A Reef Net: Open from 5 a.m. to 9 p.m., Wednesday, July 30, 2008 and from 5 a.m. to 9 p.m., Thursday, July 31, 2008.

Order Number 2008-06: Issued 11:30 a.m., August 1, 2008

Treaty Indian Fisheries:

Areas 4B, 5 and 6C: Previously announced drift gillnet fishery scheduled to close at 12 p.m. (noon), Saturday, August 2, 2008 will close at 6 p.m., Friday, August 1, 2008.

Classification

The Assistant Administrator for Fisheries NOAA (AA), finds that good cause exists for the inseason orders to be issued without affording the public prior notice and opportunity for comment under 5 U.S.C. 553(b)(B) as such prior notice and opportunity for comments is impracticable and contrary to the public interest. Prior notice and opportunity for public comment is impracticable because NMFS has insufficient time to allow for prior notice and opportunity for public comment between the time the stock abundance information is available to determine how much fishing can be allowed and the time the fishery must open and close in order to harvest the appropriate amount of fish while they are available.

Moreover, such prior notice and opportunity for public comment is impracticable because not closing the fishery upon attainment of the quota would allow the quota to be exceeded and thus compromise the conservation objectives established preseason, and it does not allow fishers appropriately controlled access to the available fish at the time they are available.

The AA also finds good cause to waive the 30-day delay in the effective date, required under 5 U.S.C. 553(d)(3), of the inseason orders. A delay in the effective date of the inseason orders would not allow fishers appropriately controlled access to the available fish at that time they are available.

This action is authorized by 50 CFR 300.97, and is exempt from review under Executive Order 12866.

Authority: 16 U.S.C. 3636(b).

Dated: February 9, 2009.
Emily H. Menashes,
Acting Director, Office of Sustainable Fisheries, National Marine Fisheries Service.

[FR Doc. E9-3055 Filed 2-11-09; 8:45 am]

BILLING CODE 3510-22-S